OVERSEAS PRIVATE INVESTMENT CORPORATION

[DFC-013]

Submission for OMB Review, Comments Request

AGENCY: U.S. International Development Finance Corporation (DFC), Overseas Private Investment Corporation (OPIC).

ACTION: Notice of information collection; request for comment.

SUMMARY: Under the provisions of the Paperwork Reduction Act, agencies are required to publish a Notice in the Federal Register notifying the public that the agency is creating a new information collection for OMB review and approval and requests public review and comment on the submission. Comments are being solicited on the need for the information; the accuracy of the burden estimate; the quality, practical utility, and clarity of the information to be collected; and ways to minimize reporting the burden, including automated collected techniques and uses of other forms of technology.

DATES: DFC intends to begin use of these collections on October 1, 2019. Comments must be received by August 26, 2019.

ADDRESSES: Comments and requests for copies of the subject information collections may be sent by any of the following methods:

• Mail: Catherine F.I. Andrade, Agency Submitting Officer, Overseas Private Investment Corporation, 1100 New York Avenue NW, Washington, DC 20527.

• Email: fedreg@opic.gov.

Instructions: All submissions received must include the agency name and agency form number or OMB form number for the referenced information collection(s). Electronic submissions must include the full agency form number(s) in the subject line to ensure proper routing (e.g., “DFC-013”). Please note that all written comments received in response to this notice will be considered public records.

FOR FURTHER INFORMATION CONTACT: Agency Submitting Officer: Catherine Andrade, (202) 336-8768.

SUPPLEMENTARY INFORMATION: The Better Utilization of Investments Leading to Development (BUILD) Act of 2018, Public Law 115-254 creates the U.S. International Development Finance Corporation (DFC) by bringing together the Overseas Private Investment Corporation (OPIC) and the Development Credit Authority (DCA) office of the U.S. Agency for International Development (USAID). Section 1465(a) of the Act tasks OPIC staff with assisting DFC in the transition. Section 1466(a)-(b) provides that all completed administrative actions and all pending proceedings shall continue through the transition to the DFC. Accordingly, OPIC is issuing this Paperwork Reduction Act notice and request for comments on behalf of the DFC.

Summary Form Under Review

Title of Collection: Loan Transaction and Qualifying Loan Schedule Reports.

Type of Review: New collection.

Agency Form Number: DFC-013.

OMB Form Number: Not assigned.

Frequency: Semi-annual.

Affected Public: Financial Institutions.

Total Estimated Number of Annual Respondents: 300.

Estimated Time per Respondent: 4 hours.

Total Estimated Number of Annual Burden Hours: 2,400 hours.

Abstract: Semi-annual reporting by partner financial institutions via the Loan Transaction and Qualifying Loan Schedule Reports will be required to monitor financial compliance with the business terms in loan and bond guarantees administered by the DFC's Office of Development Credit and to analyze the guarantee portfolio and loans placed under guarantee coverage. The information collected in the reports may also play a role, when coupled with other methods and tools, in evaluating program effectiveness.

Dated: June 24, 2019.
Dev Jagadesan,
Deputy General Counsel, Department of Legal Affairs.

[FR Doc. 2019-13688 Filed 6-26-19; 8:45 am]

BILLING CODE 3210-01-P